INTERNATIONAL TRADE COMMISSION

[USITC SE-06-053]

Government in the Sunshine Act Meeting; Rescheduling of Government in the Sunshine Meeting

Agency Holding the Meeting: United States International Trade Commission.

Original Date and Time: September 1, 2006 at 9:30 a.m.

New Date and Time: September 6, 2006 at 1 p.m.

Place: Room 101, 500 E Street, SW., Washington, DC 20436, Telephone: (202) 205-2000.

Status: Open to the public.

In accordance with 19 CFR 201.35(d)(1), the Commission has determined to change the day and time for the meeting of September 1, 2006 at 9:30 a.m. to September 6, 2006 at 1 p.m. All agenda items remain the same. Earlier notice of this change was not possible.

Issued: August 31, 2006.
By order of the Commission.
Marilyn R. Abbott,
Secretary to the Commission.

[FR Doc. 06-7450 Filed 8-31-06; 2:29 pm]

BILLING CODE 7020-02-M